DEPARTMENT OF HOMELAND SECURITY

Federal Emergency Management Agency

[Docket ID FEMA-2018-0002; Internal Agency Docket No. FEMA-B-1803]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: January 18, 2018.
Roy E. Wright,
Deputy Associate Administrator for Insurance and Mitigation, Department of Homeland Security, Federal Emergency Management Agency.

State and county | Location and case No. | Chief executive officer of community | Community map repository | Online location of letter of map revision | Date of modification | Community No.
Arkansas:
Lowell | City of Lowell (17-06-1806P) | The Honorable Eldon Long, Mayor, City of Lowell, 216 North Lincoln Street, Lowell, AR 72745 | City Hall, 216 North Lincoln Street, Lowell, AR 72745 | https://msc.fema.gov/portal/advanceSearch | Mar. 26, 2018 | 050342
Colorado:
Jefferson | City of Westminster (17-08-0650P) | The Honorable Herb Atchison, Mayor, City of Westminster, 4800 West 92nd Avenue, Westminster, CO 80031 | City Hall, 4800 West 92nd Avenue, Westminster, CO 80031 | https://msc.fema.gov/portal/advanceSearch | Apr. 6, 2018 | 080008
Connecticut:
Fairfield | City of Bridgeport (17-01-1059P) | The Honorable Joseph P. Ganim, Mayor, City of Bridgeport, 999 Broad Street, Bridgeport, CT 06604 | City Hall, 45 Lyon Terrace, Bridgeport, CT 06604 | https://msc.fema.gov/portal/advanceSearch | Feb. 12, 2018 | 090002
Fairfield | Town of Greenwich (17-01-2058P) | The Honorable Peter Tesei, First Selectman, Town of Greenwich Board of Selectmen, 101 Field Point Road, Greenwich, CT 06830 | Planning and Zoning Department, 101 Field Point Road, Greenwich, CT 06830 | https://msc.fema.gov/portal/advanceSearch | Feb. 9, 2018 | 090008
Florida:
Brevard | City of Cocoa Beach (17-04-7481P) | The Honorable Ben Malik, Mayor, City of Cocoa Beach, P.O. Box 322430, Cocoa Beach, FL 32932 | Development Services Department, 2 South Orlando Avenue, Cocoa Beach, FL 32931 | https://msc.fema.gov/portal/advanceSearch | Apr. 5, 2018 | 125097
DeSoto | Unincorporated areas of DeSoto County (17-04-5738P) | The Honorable Elton Langford, Chairman, DeSoto County Board of Commissioners, 201 East Oak Street, Suite 201, Arcadia, FL 34266 | DeSoto County Planning and Zoning Department, 201 East Oak Street, Suite 204, Arcadia, FL 34266 | https://msc.fema.gov/portal/advanceSearch | Mar. 23, 2018 | 120072
Hillsborough | Unincorporated areas of Hillsborough County (17-04-1127P) | The Honorable Stacy White, Chairman, Hillsborough County Board of Commissioners, 601 East Kennedy Boulevard, Tampa, FL 33602 | Hillsborough County Development Services Department, 601 East Kennedy Boulevard, Tampa, FL 33602 | https://msc.fema.gov/portal/advanceSearch | Apr. 4, 2018 | 120112
Lake | Unincorporated areas of Lake County (17-04-3997P) | The Honorable Timothy I. Sullivan, Chairman, Lake County Board of Commissioners, P.O. Box 7800, Tavares, FL 32778 | Lake County Public Works Department, 437 Ardice Avenue, Eustis, FL 32726 | https://msc.fema.gov/portal/advanceSearch | Mar. 29, 2018 | 120421
Lee | Unincorporated areas of Lee County (17-04-7100P) | The Honorable Mr. John Manning, Chairman, Lee County Board of Commissioners, P.O. Box 398, Fort Myers, FL 33902 | Lee County Building Department, 1500 Monroe Street, Fort Myers, FL 33901 | https://msc.fema.gov/portal/advanceSearch | Apr. 3, 2018 | 125124
Okaloosa | City of Destin (17-04-5431P) | Ms. Carisse LeJeune, Manager, City of Destin, 4200 Indian Bayou Trail, Destin, FL 32541 | Public Services Department, 4200 Indian Bayou Trail, Destin, FL 32541 | https://msc.fema.gov/portal/advanceSearch | Mar. 20, 2018 | 125158
Okaloosa | Unincorporated areas of Okaloosa County (17-04-5431P) | The Honorable Carolyn Ketchel, Chair, Okaloosa County Board of Commissioners, 1250 North Eglin Parkway, Suite 100, Shalimar, FL 32579 | Okaloosa County Information Technology Department, GIS Division, 1250 North Eglin Parkway, Suite 303, Shalimar, FL 32579 | https://msc.fema.gov/portal/advanceSearch | Mar. 20, 2018 | 125173
Georgia:
Cobb | City of Powder Springs (17-04-7207P) | The Honorable Al Thurman, Mayor, City of Powder Springs, P.O. Box 46, Powder Springs, GA 30127 | Community Development Department, 4488 Pineview Drive, Powder Springs, GA 30127 | https://msc.fema.gov/portal/advanceSearch | Apr. 9, 2018 | 130056
Cobb | Unincorporated areas of Cobb County (17-04-7207P) | The Honorable Mike Boyce, Chairman, Cobb County Board of Commissioners, 100 Cherokee Street, Marietta, GA 30090 | Cobb County Stormwater Management Division, 680 South Cobb Drive, Marietta, GA 30060 | https://msc.fema.gov/portal/advanceSearch | Apr. 9, 2018 | 130052
Jackson | Town of Braselton (17-04-4117P) | The Honorable Bill Orr, Mayor, Town of Braselton, 4986 Highway 53, Braselton, GA 30517 | Public Works Department, 4986 Highway 53, Braselton, GA 30517 | https://msc.fema.gov/portal/advanceSearch | Mar. 15, 2018 | 130343
Jackson | Unincorporated areas of Jackson County (17-04-4117P) | The Honorable Tom Crow, Chairman, Jackson County Board of Commissioners, 67 Athens Street, Jefferson, GA 30549 | Jackson County Public Development Department, 67 Athens Street, Jefferson, GA 30549 | https://msc.fema.gov/portal/advanceSearch | Mar. 15, 2018 | 130345
Louisiana:
Madison | Unincorporated areas of Madison Parish (17-06-1514P) | The Honorable Robert Fortenberry, President, Madison Parish, 100 North Cedar Street, Tallulah, LA 71282 | Madison Parish Courthouse, 100 North Cedar Street, Tallulah, LA 71282 | https://msc.fema.gov/portal/advanceSearch | Feb. 16, 2018 | 220122
New Mexico:
Bernalillo | City of Albuquerque (17-06-4036X) | The Honorable Richard J. Berry, Mayor, City of Albuquerque, P.O. Box 1293, Albuquerque, NM 87103 | Development Review Services Division, 600 2nd Street Northwest, Albuquerque, NM 87103 | https://msc.fema.gov/portal/advanceSearch | Feb. 5, 2018 | 350002
New York:
Erie | City of Lackawanna (17-02-1965P) | The Honorable Geoffrey M. Szymanski, Mayor, City of Lackawanna, 714 Ridge Road, Lackawanna, NY 14218 | City Hall, 714 Ridge Road, Lackawanna, NY 14218 | https://msc.fema.gov/portal/advanceSearch | May 2, 2018 | 360247
Erie | Town of Hamburg (17-02-1965P) | The Honorable Steven J. Walters, Chairman, Town of Hamburg Board of Supervisors, 6100 South Park Avenue, Hamburg, NY 14075 | Town Hall, 6100 South Park Avenue, Hamburg, NY 14075 | https://msc.fema.gov/portal/advanceSearch | May 2, 2018 | 360244
Erie | Town of West Seneca (17-02-1965P) | The Honorable Sheila M. Meegan, Chair, Town of West Seneca Board of Supervisors, 1250 Union Road, West Seneca, NY 14224 | Town Hall, 1250 Union Road, West Seneca, NY 14224 | https://msc.fema.gov/portal/advanceSearch | May 2, 2018 | 360262
North Carolina:
Orange | Town of Chapel Hill (17-04-3137P) | The Honorable Pam Hemminger, Mayor, Town of Chapel Hill, 405 Martin Luther King Jr. Boulevard, Chapel Hill, NC 27514 | Stormwater Management Program Office, 208 North Columbia Street, Chapel Hill, NC 27514 | https://msc.fema.gov/portal/advanceSearch | Mar. 13, 2018 | 370180
South Carolina:
Greenville | City of Greenville (17-04-4211P) | The Honorable Knox White, Mayor, City of Greenville, P.O. Box 2207, Greenville, SC 29602 | Engineering Division, 206 South Main Street, 8th Floor, Greenville, SC 29601 | https://msc.fema.gov/portal/advanceSearch | Mar. 2, 2018 | 450091
Greenville | Unincorporated areas of Greenville County (17-04-4211P) | The Honorable H. G. (Butch) Kirven, Jr., Chairman, Greenville County Council, 301 University Ridge, Suite 2400, Greenville, SC 29601 | Greenville County Planning and Code Compliance Division, 301 University Ridge, Suite 4100, Greenville, SC 29601 | https://msc.fema.gov/portal/advanceSearch | Mar. 2, 2018 | 450089
Tennessee:
Williamson | City of Brentwood (17-04-1261P) | The Honorable Jill Burgin, Mayor, City of Brentwood, 1211 Knox Valley Drive, Brentwood, TN 37027 | City Hall, 5211 Maryland Way, Brentwood, TN 37027 | https://msc.fema.gov/portal/advanceSearch | Jan. 26, 2018 | 470205
Wilson | City of Mt. Juliet (17-04-6333P) | The Honorable Ed Hagerty, Mayor, City of Mt. Juliet, 2425 North Mt. Juliet Road, Mt. Juliet, TN 37122 | City Hall, 2425 North Mt. Juliet Road, Mt. Juliet, TN 37122 | https://msc.fema.gov/portal/advanceSearch | Feb. 15, 2018 | 470290
Texas:
Bexar | City of San Antonio (17-06-2000P) | The Honorable Ron Nirenberg, Mayor, City of San Antonio, P.O. Box 839966, San Antonio, TX 78283 | Transportation and Capital Improvements Department, Storm Water Division, 1901 South Alamo Street, 2nd Floor, San Antonio, TX 78284 | https://msc.fema.gov/portal/advanceSearch | Mar. 30, 2018 | 480045
Collin | City of Frisco (17-06-3743P) | The Honorable Jeff Cheney, Mayor, City of Frisco, 6101 Frisco Square Boulevard, Frisco, TX 75034 | Engineering Services Department, 11300 Research Road, Frisco, TX 75033 | https://msc.fema.gov/portal/advanceSearch | Apr. 9, 2018 | 480134
Collin | City of McKinney (17-06-2726P) | The Honorable George Fuller, Mayor, City of McKinney, P.O. Box 517, McKinney, TX 75070 | Engineering Department, 221 North Tennessee Street, McKinney, TX 75069 | https://msc.fema.gov/portal/advanceSearch | Apr. 2, 2018 | 480135
Collin | City of McKinney (17-06-3589P) | The Honorable George Fuller, Mayor, City of McKinney, P.O. Box 517, McKinney, TX 75070 | Engineering Department, 221 North Tennessee Street, McKinney, TX 75069 | https://msc.fema.gov/portal/advanceSearch | Mar. 26, 2018 | 480135
Denton | Town of Prosper (17-06-2975P) | The Honorable Ray Smith, Mayor, Town of Prosper, P.O. Box 307, Prosper, TX 75078 | Engineering Department, 407 East 1st Street, Prosper, TX 75078 | https://msc.fema.gov/portal/advanceSearch | Mar. 29, 2018 | 480141
Harris | Unincorporated areas of Harris County (17-06-3082P) | The Honorable Edward M. Emmett, Harris County Judge, 1001 Preston Street, Suite 911 | Harris County Permit Office, 10555 Northwest Freeway, Suite 120, Houston, TX 77092 | https://msc.fema.gov/portal/advanceSearch | Apr. 2, 2018 | 480287
Johnson | City of Burleson (17-06-2604P) | The Honorable Ken Shetter, Mayor, City of Burleson, 141 West Renfro Street, Burleson, TX 76028 | Public Works Department, 725 Southeast John Jones Drive, Burleson, TX 76028 | https://msc.fema.gov/portal/advanceSearch | Apr. 6, 2018 | 485459
Montgomery | Unincorporated areas of Montgomery County (17-06-0698P) | The Honorable Craig B. Doyal, Montgomery County Judge, 501 North Thompson Street, Suite 401, Conroe, TX 77301 | Montgomery County Commissioners Court Building, 501 North Thompson, Suite 103, Conroe, TX 77301 | https://msc.fema.gov/portal/advanceSearch | Feb. 16, 2018 | 480483
Tarrant | City of Fort Worth (17-06-2140P) | The Honorable Betsy Price, Mayor, City of Fort Worth, 200 Texas Street, Fort Worth, TX 76102 | Transportation and Public Works Department, 200 Texas Street, Fort Worth, TX 76102 | https://msc.fema.gov/portal/advanceSearch | Mar. 23, 2018 | 480596
Virginia:
Fauquier | Unincorporated areas of Fauquier County (17-03-1541P) | The Honorable Richard R. Gerhardt, Chairman, Fauquier County Board of Supervisors, 10 Hotel Street, Suite 208, Warrenton, VA 20186 | Fauquier County Circuit Court, 29 Ashby Street, 3rd Floor, Warrenton, VA 20186 | https://msc.fema.gov/portal/advanceSearch | Apr. 5, 2018 | 510055
Louisa | Unincorporated areas of Louisa County (17-03-2337P) | Mr. Christian Goodwin, Louisa County Administrator, P.O. Box 160, Louisa, VA 23093 | Louisa County Department of Community Development, 1 Woolfolk Avenue, Louisa, VA 23093 | https://msc.fema.gov/portal/advanceSearch | May 14, 2018 | 510092
Orange | Unincorporated areas of Orange County (17-03-2377P) | Mr. R. Bryan David, Orange County Administrator, P.O. Box 111, Orange, VA 22960 | Orange County Department of Planning and Zoning, 128 West Main Street, Orange, VA 22960 | https://msc.fema.gov/portal/advanceSearch | May 14, 2018 | 510203
Spotsylvania | Unincorporated areas of Spotsylvania County (17-03-2377P) | Mr. Mark B. Taylor, Spotsylvania County Administrator, 9104 Courthouse Road, Spotsylvania, VA 22553 | Spotsylvania County Zoning Department, 9019 Old Battlefield Boulevard, Suite 300, Spotsylvania, VA 22553 | https://msc.fema.gov/portal/advanceSearch | May 14, 2018 | 510308

[FR Doc. 2018-02380 Filed 2-6-18; 8:45 am]

BILLING CODE 9110-12-P